DEPARTMENT OF LABOR

Employment and Training Administration

[TA-W-50,941A]

Harting, Inc. of North America, Elgin, Illinois; Including an Employee of Harting, Inc. of North America, Located in California; Amended Certification Regarding Eligibility To Apply for Worker Adjustment Assistance

In accordance with section 223 of the Trade Act of 1974 (19 U.S.C. 2273) the Department of Labor issued a Certification of Eligibility to Apply for Worker Adjustment Assistance on March 5, 2003, applicable to workers of Harting, Inc. of North America, Elgin, Illinois. The notice was published in the Federal Register on March 19, 2003 (68 FR 13332).

At the request of the State agency, the Department reviewed the certification for workers of the subject firm. New information shows that a worker was separated involving an employee of the Elgin, Illinois facility of Harting, Inc. of North America located in California. This employee provided technical support services for the production of cable assemblies at an affiliated facility Harting Manufacturing, Inc., Elgin, Illinois.

Based on these findings, the Department is amending this certification to include an employee of the Elgin, Illinois facility of Harting, Inc. of North American, located in California.

The intent of the Department's certification is to include all workers of Harting, Inc. of North America who were adversely affected by increased imports.

The amended notice applicable to TA-W-50,941A is hereby issued as follows:

• “All workers of Harting, Inc. of North America, Elgin, Illinois (TA-W-50,941A), including employees of Harting, Inc. of North America, Elgin, Illinois, located in California (TA-W-50,834B), who became totally or partially separated from employment on or after February 14, 2002, through March 5, 2005, are eligible to apply for adjustment assistance under section 223 of the Trade Act of 1974.”

Signed at Washington, DC this 21st day of November 2003.
Richard Church,
Certifying Officer, Division of Trade Adjustment Assistance.

[FR Doc. 03-31990 Filed 12-30-03; 8:45 am]

BILLING CODE 4510-30-P